POSTAL SERVICE

39 CFR Part 232

Conduct on Postal Property

AGENCY: Postal Service.

ACTION: Final rule.

SUMMARY: This final rule amends Postal Service regulations pertaining to conduct on postal property. The purpose of these amendments is to clarify the regulations.

EFFECTIVE DATE: December 1, 2005.

FOR FURTHER INFORMATION CONTACT: Susan L. Koetting, Attorney, (202) 268-4818.

SUPPLEMENTARY INFORMATION: The Postal Service's regulations pertaining to conduct on postal property, among other things, prohibit persons from soliciting signatures on petitions, polls, and surveys on postal property. 63 FR 34599 (June 25, 1998). This amendment clarifies that, with respect to §§ 232.1(h)(1) and 232.1(o), the regulations are not applicable to certain types of perimeter sidewalks surrounding Postal Service property that are owned in whole or in part by the Postal Service, that is, those that fall within the Postal Service's property lines. These sidewalks are those that surround the outer perimeters of Postal Service property and are indistinguishable from adjacent municipal or other public sidewalks. Because members of the public might not be able to distinguish this type of postal property from municipal or other public property, and thus might not realize that they have entered onto postal property, with respect to the sections listed above, the Postal Service will exclude such property from these regulations. Although it has always been the Postal Service's practice to not enforce these sections of the regulations on these types of perimeter sidewalks, specifically making these sections of the regulations inapplicable to such sidewalks eliminates potential confusion.

In addition, this amendment clarifies that the regulations do not apply at all to property that is owned or leased by the Postal Service, but is leased or subleased to private tenants for their exclusive use. Any restrictions to be imposed on property that is leased to private tenants will be contained in the subject lease or sublease.

The regulations continue to apply to other types of exterior Postal Service property that are open to the public, including internal sidewalks that are easily distinguishable from the perimeter sidewalks by means of some physical feature, such as sidewalks perpendicular to the perimeter sidewalks (“feeder” sidewalks), sidewalks leading from a postal parking lot to the postal building, and other exterior areas, such as parking lots, porches, patios, and steps.

The amendment is also intended to clarify that the prohibition against soliciting signatures on postal property refers to the actual collection of the signatures and not to communication that promotes the signing of petitions, polls, and surveys somewhere other than on Postal Service premises. Any such activities are still subject to other provisions, as applicable, such as those prohibiting disturbances, soliciting contributions or collecting private debts, campaigning for public office, vending, commercial advertising, impeding ingress and egress, depositing or posting literature, and setting up tables, stands, or other structures.

The Postal Service, therefore, is revising Section 232.1(a) to specify that the regulations do not apply to real property, owned or leased by the Postal Service, that is leased or subleased by the Postal Service to private tenants for their exclusive use; or, with respect to §§ 232.1(h)(1) and 232.1(o), to sidewalks surrounding the outer perimeter of postal property that are indistinguishable from municipal or other public sidewalks, even when the Postal Service owns all or part of such sidewalks. In addition, the Postal Service is revising § 232.1(h)(1) to substitute the term “collecting” for “soliciting” in the provision pertaining to signatures on petitions, polls, and surveys and is moving the provision prohibiting blocking ingress and egress from post offices from § 232.1(h)(1) to § 232.1(e).

List of Subjects in 39 CFR Part 232

Federal buildings and facilities, Penalties, Postal Service.

In view of the considerations discussed above, the Postal Service adopts the following amendments to 39 CFR part 232.

PART 232—CONDUCT ON POSTAL PROPERTY

Part 232 is amended as follows:

1. The authority citation for part 232 is revised to read as follows:

Authority: 18 U.S.C. 13, 3061; 21 U.S.C. 802, 844; 39 U.S.C. 401, 403(b)(3), 404(a)(7); 40 U.S.C. 1315; Pub. L. 104-208, 110 Stat. 1060.

2. In § 232.1, paragraph (a) is revised to read as follows:

§ 232.1 Conduct on postal property.

(a) Applicability. This section applies to all real property under the charge and control of the Postal Service, to all tenant agencies, and to all persons entering in or on such property. This section shall be posted and kept posted at a conspicuous place on all such property. This section shall not apply to—

(i) Any portions of real property, owned or leased by the Postal Service, that are leased or subleased by the Postal Service to private tenants for their exclusive use;

(ii) With respect to sections 232.1(h)(1) and 232.1(o), sidewalks along the street frontage of postal property falling within the property lines of the Postal Service that are not physically distinguishable from adjacent municipal or other public sidewalks, and any paved areas adjacent to such sidewalks that are not physically distinguishable from such sidewalks.

* * * * *

§ 232.1 [Amended]

3. In § 232.1(e), add the phrase “impedes ingress to or egress from post offices, or otherwise” before the term “obstructs.”

§ 232.1 [Amended]

4. In § 232.1(h)(1), remove the words “soliciting signatures” and add the words “collecting signatures” in their place. Delete the phrase “and impeding ingress to or egress from post offices.”

Stanley F. Mires,
Chief Counsel, Legislative.

[FR Doc. 05-23507 Filed 11-30-05; 8:45 am]

BILLING CODE 7710-12-P